DEPARTMENT OF HOMELAND SECURITY

Office of the Secretary

[Docket No. DHS-2008-0085]

Privacy Act of 1974; Department of Homeland Security Drug Free Workplace System of Records

AGENCY: Privacy Office; DHS.

ACTION: Notice of Privacy Act system of records.

SUMMARY: In accordance with the Privacy Act of 1974 the Department of Homeland Security is issuing a system of records notice for the Department's Drug Free Workplace Records. This record system will allow the Department of Homeland Security to collect maintain information gathered by and in the possession of Department of Homeland Security Drug Free Workplace Program Officials, used in the course of their duties in verifying positive test results for illegal use of controlled substance, and possession, distribution, or trafficking of controlled substances. This new system will be included in the Department's inventory of record systems.

DATES: Submit comments on or before December 1, 2008. This new system will be effective December 1, 2008.

ADDRESSES: You may submit comments, identified by docket number DHS-2008-0085 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change to http://www.regulations.gov, including any personal information provided.

• Docket: For access to the docket, to read background documents, or comments received go to http://www.regulations.gov.

FOR FURTHER INFORMATION CONTACT: For general questions and privacy issues please contact: Hugo Teufel III (703-235-0780), Chief Privacy Officer, Privacy Office, Department of Homeland Security, Washington, DC 20528.

SUPPLEMENTARY INFORMATION:

I. Background

Pursuant to the savings clause in the Homeland Security Act of 2002, Public Law 107-296, Section 1512, 116 Stat. 2310 (November 25, 2002), and as part of its efforts to streamline and consolidate its Privacy Act records systems, the Department of Homeland Security (DHS) is establishing a new agency-wide system of records under the Privacy Act (5 U.S.C. 552a) for DHS Drug Free Workplace records. The system will consist of DHS employee records on the illegal use of controlled substances, and evidence of possession, distribution, or trafficking of controlled substances.

In accordance with the Privacy Act of 1974, DHS is issuing a system of records notice for the Department's Drug Free Workplace Records. This record system will allow DHS to collect maintain information gathered by and in the possession of DHS Drug Free Workplace Program Officials, used in the course of their duties in verifying positive test results for illegal use of controlled substance, and possession, distribution, or trafficking of controlled substances. This new system will be included in the Department's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and legal permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR Part 5.

The Privacy Act requires that each agency publish in the Federal Register a description denoting the type and character of each system of records in order to make agency recordkeeping practices transparent, to notify individuals about the use of their records, and to assist the individual to more easily find files within the agency. Below is a description of the Drug Free Workplace System of Records.

In accordance with 5 U.S.C. 552a(r), DHS has provided a report of this new system of records to the Office of Management and Budget and to the Congress.

System of Records:

DHS/ALL-022.

System name:

Department of Homeland Security Drug Free Workplace Records.

Security classification:

Unclassified.

System location:

Records are maintained by the Office of the Chief Human Capital Officer, at several Headquarters locations, in component offices of DHS, in both Washington, DC and field locations, and by contractor locations on behalf of DHS.

Categories of individuals covered by the system:

Current and former employees of DHS and certain applicants for employment with DHS who are tested for or submit voluntarily or involuntarily to the illegal use, possession, distribution, or trafficking of controlled substances.

Categories of records in the system:

Categories of records in this system include:

• Individual's name;

• Social Security number;

• Date of birth;

• Addresses;

• Telephone numbers;

• E-mail addresses;

• Job title and grade;

• Supervisor's, senior management's and leadership's full name, addresses, phone numbers, and email addresses;

• Supervisor's, senior management's and leadership's notes and records regarding an employee's suspected and/or confirmed illegal use, possession, distribution, or trafficking of controlled substances;

• Records related to any criminal conviction for illegal drug use or evidence obtained from any arrest or criminal conviction;

• Correspondence related to the suspected and/or confirmed illegal use, possession, distribution, or trafficking of controlled substances of a current or former DHS employee, including electronic mail and other electronic documents;

• Verified positive and negative test results for illegal use of controlled substances;

• Evidence of possession, distribution, or trafficking of controlled substances;

• Lists of controlled substances verified as positive;

• Substance abuse assessment, aftercare, and substance use monitoring results;

• Employee records of attendance at treatment, types of treatment, and counseling programs related to illegal use, possession, distribution, or trafficking of controlled substances;

• Records of treatment and counseling referrals related to testing for illegal use, possession, distribution, or trafficking of controlled substances;

• Prognosis of treatment information related to testing for illegal use, possession, distribution, or trafficking of controlled substances;

• Individual's name, address, work/cell/home phone numbers, email addresses, and other basic identification data for insurance purposes;

• Name, address, telephone numbers, email addresses of treatment facilities;

• Name, address, telephone numbers, email addresses of individuals providing treatment; and

• Written consent forms.

Authority for maintenance of the system:

5 U.S.C. 301; Federal Records Act; 44 U.S.C. 3101; The Homeland Security Act of 2002; Public Law 107-296; 42 U.S.C. 290dd-2; 5 U.S.C. 7301; 7361, 7362, 7901, 7904; Executive Order 9373; and Executive Order 12564.

Purpose(s):

This record system will maintain information gathered by and in the possession of DHS Drug Free Workplace Program Officials, used in the course of their duties in verifying positive test results for illegal use of controlled substance, as well as collecting and maintaining evidence of possession, distribution, or trafficking of controlled substances.

Routine uses of records maintained in the system, including categories of users and the purposes of such uses:

Disclosure of substance abuse records is limited to the parameters set forth in 42 U.S.C. 290dd, 290ee, and Public Law 100-71, Section 503(e). Accordingly, a federal employee's substance abuse records may not be disclosed without the prior written consent of the employee, unless the disclosure would be one of the following:

A. To medical personnel to the extent necessary to meet a bona fide medical emergency;

B. To qualified personnel for the purpose of conducting scientific research, management audits, financial audits, or program evaluation provided that employees are individually identified;

C. To the employee's medical review official;

D. To the administrator of any Employee Assistance Program in which the employee is receiving counseling or treatment or is otherwise participating;

E. To any supervisory or management official within the employee's agency having authority to take adverse personnel action against such employee; or

F. Pursuant to the order of a court of competent jurisdiction where required by the United States Government to defend against any challenge against any adverse personnel action. See 42 U.S.C. 290dd, 290ee, and Public Law 100-71, Section 503(e).

In addition to those disclosures generally permitted under 5 U.S.C. 552a(b) of the Privacy Act, records, other than substance abuse records described above, or other information contained in this system may be disclosed outside DHS as a routine use pursuant to 5 U.S.C. 552a(b)(3) as follows:.

A. To the Department of Justice (including United States Attorney Offices) or other Federal agency conducting litigation or in proceedings before any court, adjudicative or administrative body when it is necessary to the litigation and one of the following is a party to the litigation or has an interest in such litigation:

1. DHS or any component thereof;

2. any employee of DHS in his/her official capacity;

3. any employee of DHS in his/her individual capacity where the Department of Justice or DHS has agreed to represent the employee; or

4. the United States or any agency thereof, is a party to the litigation or has an interest in such litigation, and DHS determines that the records are both relevant and necessary to the litigation and the use of such records is compatible with the purpose for which DHS collected the records.

B. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

C. To appropriate State and local authorities to report, under State law, incidents of suspected child abuse or neglect to the extent described under 42 CFR 2.12.

D. To any person or entity to the extent necessary to prevent an imminent and potential crime which directly threatens loss of life or serious bodily injury.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Data may be retrieved by an individual's name, date of birth, and social security number.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permission.

Retention and disposal:

Records are destroyed after three years, in accordance with National Archives and Records Administration General Records Schedule 1, Item 36.

System Manager and address:

For Headquarters of DHS, the System Manager is the Director of Departmental Disclosure, Department of Homeland Security, Washington, DC 20528. For components of DHS, the System Manager can be found at http://www.dhs.gov/foia under “contacts.”

Notification procedure:

Individuals seeking notification of and access to any record contained in this system of records, or seeking to contest its content, may submit a request in writing to the Headquarters' or component's FOIA Officer, whose contact information can be found at http://www.dhs.gov/foia under “contacts.” If an individual believes more than one component maintains Privacy Act records concerning him or her the individual may submit the request to the Chief Privacy Officer, Department of Homeland Security, 245 Murray Drive, SW., Building 410, STOP-0550, Washington, DC 20528.

When seeking records about yourself from this system of records or any other Departmental system of records your request must conform with the Privacy Act regulations set forth in 6 CFR Part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Identify which component(s) of the Department you believe may have the information about you,

• Specify when you believe the records would have been created,

• Provide any other information that will help the FOIA staff determine which DHS component agency may have responsive records,

• If your request is seeking records pertaining to another living individual, you must include a statement from that individual certifying his/her agreement for you to access his/her records.

Without this bulleted information the component(s) may not be able to conduct an effective search, and your request may be denied due to lack of specificity or lack of compliance with applicable regulations.

Record access procedures:

See “Notification procedure” above.

Contesting record procedures:

See “Notification procedure” above.

Record Source Categories:

Information originates from personnel who submit to drug and alcohol testing, DHS and its components and offices, and testing and treatment facilities.

Exemptions claimed for the system:

None.

Dated: October 22, 2008.
Hugo Teufel III,
Chief Privacy Officer, Department of Homeland Security.

[FR Doc. E8-25971 Filed 10-30-08; 8:45 am]

BILLING CODE 4410-10-P